DEPARTMENT OF ENERGY

Federal Energy Regulatory Commission

[Docket No. RP02-206-000]

Tenaska Marketing Ventures, Complainant, v. Northern Border Pipeline Company, Respondent; Notice of Complaint

March 22, 2002.

Take notice that on March 20, 2002, Tenaska Marketing Ventures (TMV) submitted a complaint against Northern Border Pipeline Company (Northern Border).

TMV alleges that Northern Border is refusing to enforce its FERC Gas Tariff and contracts by not terminating its service agreements with affiliate Enron North America (ENA). TMV alleges that if Northern Border had properly terminated ENA's service agreements, it could no longer bill for and collect transportation charges from temporary capacity release replacement shippers (such as TMV) that have acquired ENA capacity because once Northern Border terminates the underlying service agreements, all subordinate capacity releases also terminate unless the pipeline makes alternative arrangements with the replacement shippers in a manner consistent with Northern Border's tariff.

Any person desiring to be heard or to protest this filing should file a motion to intervene or protest with the Federal Energy Regulatory Commission, 888 First Street, NE, Washington, DC 20426, in accordance with Rules 211 and 214 of the Commission's Rules of Practice and Procedure (18 CFR 385.211 and 385.214). All such motions or protests must be filed on or before April 9, 2002. Protests will be considered by the Commission in determining the appropriate action to be taken, but will not serve to make protestants parties to the proceeding. Any person wishing to become a party must file a motion to intervene. Answers to the complaint shall also be due on or before April 9, 2002. Copies of this filing are on file with the Commission and are available for public inspection. This filing may also be viewed on the web at http://www.ferc.gov using the “RIMS” link, select “Docket#” and follow the instructions (call 202-208-2222 for assistance). Comments, protests, interventions and answers may be filed electronically via the Internet in lieu of paper. See, 18 CFR 385.2001(a)(1)(iii) and the instructions on the Commission's web site under the “e-Filing” link.

Linwood A. Watson, Jr.,
Deputy Secretary.

[FR Doc. 02-7462 Filed 3-27-02; 8:45 am]

BILLING CODE 6717-01-P